DEPARTMENT OF COMMERCE

National Oceanic and Atmospheric Administration

[I.D. 090605D]

Marine Mammals; File Nos. 1070-1783 and 1075-1788

AGENCY: National Marine Fisheries Service (NMFS), National Oceanic and Atmospheric Administration (NOAA), Commerce.

ACTION: Notice; receipt of applications.

SUMMARY: Notice is hereby given that the following individuals have applied in due form for permits to conduct research on marine mammals: Dr. Alejandro Acevedo-Gutierrez, Biology Department, Western Washington University, Bellingham, WA 98225-9160 (File No. 1070-1783); and Dr. Shane B. Kanatous, Department of Internal Medicine, University of Texas, Southwestern Medical Center, 5323 Harry Hines Blvd., Dallas, TX 75390-8573 (File No. 1075-1788).

DATES: Written, telefaxed, or e-mail comments must be received on or before October 14, 2005.

ADDRESSES: The applications and related documents are available for review upon written request or by appointment in the following offices:

Permits, Conservation and Education Division, Office of Protected Resources, NMFS, 1315 East-West Highway, Room 13705, Silver Spring, MD 20910; phone (301)713-2289; fax (301)427-2521;

File No. 1070-1783: Northwest Region, NMFS, 7600 Sand Point Way NE, BIN C15700, Bldg. 1, Seattle, WA 98115-0700; phone (206)526-6150; fax (206)526-6426; and

File No. 1075-1788: Southwest Region, NMFS, 501 West Ocean Blvd., Suite 4200, Long Beach, CA 90802-4213; phone (562)980-4001; fax (562)980-4018.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile to (301)427-2521, provided the facsimile is confirmed by hard copy submitted by mail and postmarked no later than the closing date of the comment period.

Comments may also be submitted by e-mail to NMFS.Pr1Comments@noaa.gov. Include the appropriate document identifier in the subject line of the e-mail comment: File No. 1070-1783 or 1075-1788.

FOR FURTHER INFORMATION CONTACT: Tammy Adams, Shane Guan, or Ruth Johnson, (301)713-2289.

SUPPLEMENTARY INFORMATION: The subject permits are requested under the authority of the Marine Mammal Protection Act of 1972, as amended (MMPA; 16 U.S.C. 1361 et seq.) and the Regulations Governing the Taking and Importing of Marine Mammals (50 CFR part 216).

File No. 1070-1783: The applicant requests a five-year permit to study temporal and spatial variation in numbers and diet composition of harbor seals (Phoca vitulina) in southern Padilla Bay, Washington to determine responses of harbor seals to changes in prey density and the impact of seal behavior on marine protected areas. Fecal samples would be collected from rookeries and haul-out sites for dietary analyses and seals would be counted during aerial and vessel surveys. The applicant requests to harass seals from the Washington Inland Waters Stock during the study. The estimated minimum number of harbor seals in this stock is 12,844 seals.

File No. 1075-1788: The applicant requests a two-year permit to characterize the ontogenetic changes in skeletal muscle physiology in newly weaned, subadult, and adult Weddell seals (Leptonychotes weddellii) in the Antarctic and determine the molecular controls that regulate these changes. The applicant proposes to capture 15 adult, 15 juvenile, and 10 weaned pups annually to collect small muscle biopsy samples from the swimming muscles to identify the proteins and transcription factors that regulate the changes in myoglobin concentration, fiber type distribution and aerobic capacity. These results are expected to increase understanding of the ontogeny and molecular mechanisms by which young seals acquire the physiological adaptations necessary to become competent divers and marine predators. The applicant also requests authorization for the research-related mortality of up to two seals per year if complications should arise during sedation and handling.

Concurrent with the publication of this notice in the Federal Register, NMFS is forwarding copies of these applications to the Marine Mammal Commission and its Committee of Scientific Advisors.

Dated: September 8, 2005.
Stephen L. Leathery,
Chief, Permits, Conservation and Education Division, Office of Protected Resources, National Marine Fisheries Service.

[FR Doc. 05-18230 Filed 9-13-05; 8:45 am]

BILLING CODE 3510-22-S